DEPARTMENT OF DEFENSE

Department of the Air Force

Proposed Collection, Comment Request

AGENCY: Department of the Air Force, DoD.

ACTION: Notice.

In compliance with Section 3506(c)(2)(A) of the Paperwork Reduction Act of 1995, the Air Force Junior Reserve Officer Training Corps (AFJROTC), Operations Section, announces the proposed renewal of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 18, 2000.

ADDRESSES: Written comments and recommendations on the proposed information collection should be sent to AFROTC/DOJ, 551 East Maxwell Blvd, Maxwell AFB, AL 36112-6106.

FOR FURTHER INFORMATION CONTACT: To request more information on this proposed information collection or to obtain a copy of the proposal and associated collection instruments, please write to the above address or call AFROTC/DOJO at (334) 953-5116.

Title, Associated Form, and OMB Number: Application for Establishment of Air Force Junior ROTC Unit, AFOATS Form 59, OMB Number 0701-0114.

Needs and Uses: The information collection requirement is necessary to obtain information about schools which would like to host an Air Force Junior ROTC unit.

Affected Public: Schools which desire to establish an Air Force Junior ROTC unit.

Annual Burden Hours: 20.

Number of Respondents: 40.

Average Burden Per Respondent: 30 Minutes.

Frequency: One time.

SUPPLEMENTARY INFORMATION: Summary of Information Collection:

Respondents are high school officials who provide information about their school which is interested in hosting an Air Force JROTC unit. The completed form is used to determine the eligibility of the school to host an Air Force JROTC unit. If the form is not included in the file, a school cannot be offered the opportunity to host an AFJROTC unit.

Janet A. Long,
Federal Register Air Force Liaison Officer.

[FR Doc. 00-26753 Filed 10-17-00; 8:45 am]

BILLING CODE 5001-05-U